DEPARTMENT OF HOMELAND SECURITY

U.S. Citizenship and Immigration Services

[CIS No. 2816-25; DHS Docket No. USCIS-2022-0004]

RIN 1615-ZB94

Termination of the Designation of Afghanistan for Temporary Protected Status

AGENCY: U.S. Citizenship and Immigration Services, U.S. Department of Homeland Security.

ACTION: Notice.

SUMMARY: Through this notice, the Department of Homeland Security (DHS) announces that the Secretary of Homeland Security (Secretary) is terminating the designation of Afghanistan for Temporary Protected Status (TPS). The designation of Afghanistan is set to expire on May 20, 2025. After reviewing country conditions and consulting with appropriate U.S. Government agencies, the Secretary determined that Afghanistan no longer continues to meet the conditions for designation for TPS. The Secretary therefore is terminating the TPS designation of Afghanistan as required by statute. This termination is effective July 14, 2025. After July 14, 2025, nationals of Afghanistan (and aliens having no nationality who last habitually resided in Afghanistan) who have been granted TPS under Afghanistan's designation will no longer have TPS.

DATES: The designation of Afghanistan for TPS is terminated, effective at 11:59 p.m., local time, on July 14, 2025.

FOR FURTHER INFORMATION CONTACT: Rená Cutlip-Mason, Chief, Humanitarian Affairs Division, Office of Policy and Strategy, U.S. Citizenship and Immigration Services, Department of Homeland Security, 800-375-5283.

SUPPLEMENTARY INFORMATION:

Table of Abbreviations

CFR—Code of Federal Regulations

DHS—U.S. Department of Homeland Security

EAD—Employment Authorization Document

FR—Federal Register

Government—U.S. Government

INA—Immigration and Nationality Act

Secretary—Secretary of Homeland Security

TPS—Temporary Protected Status

USCIS—U.S. Citizenship and Immigration Services

U.S.C.—United States Code

What is Temporary Protected Status (TPS)?

The Immigration and Nationality Act (INA) authorizes the Secretary of Homeland Security, after consultation with appropriate agencies of the U.S. Government, to designate a foreign state (or part thereof) for TPS if the Secretary determines that certain country conditions exist. See INA sec. 244(b)(1), 8 U.S.C. 1254a(b)(1). The determination whether to designate any foreign state (or part thereof) for TPS is discretionary, and there is no judicial review of “any determination of the [Secretary] with respect to the designation, or termination or extension of a designation, of a foreign state” for TPS. See INA sec. 244(b)(5)(A), 8 U.S.C. 1254a(b)(5)(A). The Secretary, in her discretion, may grant TPS to eligible nationals of that foreign state (or aliens having no nationality who last habitually resided in the designated foreign state). See INA sec. 244(a)(1)(A), 8 U.S.C. 1254a(a)(1)(A).

At least 60 days before the expiration of a foreign state's TPS designation or extension, the Secretary—after consultation with appropriate U.S. Government agencies—must review the conditions in the foreign state designated for TPS to determine whether they continue to meet the conditions for the TPS designation. See INA sec. 244(b)(3)(A), 8 U.S.C. 1254a(b)(3)(A). If the Secretary does not determine that the conditions in the foreign state no longer continue to meet the specific statutory criteria for TPS designation, TPS will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B). The Secretary's review of TPS designations is not subject to judicial review. See INA sec. 244(b)(5)(A), 8 U.S.C. 1254a(b)(5)(A).

TPS is a temporary immigration benefit granted to eligible nationals of a country designated for TPS under the INA, or to eligible aliens without nationality who last habitually resided in the designated country. During the TPS designation period, TPS beneficiaries are eligible to remain in the United States, may not be removed, and are authorized to work and obtain an Employment Authorization Document (EAD) so long as they continue to meet the requirements of TPS. TPS beneficiaries may also apply for and be granted travel authorization as a matter of discretion. The granting of TPS does not result in or lead to lawful permanent resident status or any other immigration status. To qualify for TPS, beneficiaries must demonstrate that they meet the eligibility standards described in section 244(c)(2) of the INA, 8 U.S.C. 1254a(c)(2), in accordance with the implementing regulations, see 8 CFR pts. 244, 1244. When the Secretary terminates a country's TPS designation, beneficiaries return to the same immigration status or category that they maintained before TPS, if any (unless that status or category has since expired or been terminated), or any other lawfully obtained immigration status or category they received while registered for TPS, as long as it is still valid on the date TPS terminates.

Designation of Afghanistan for TPS

Afghanistan was initially designated for TPS on May 20, 2022, based on ongoing armed conflict and extraordinary and temporary conditions.¹ On September 25, 2023, DHS extended and newly designated Afghanistan for a period of 18 months, beginning on November 21, 2023, and ending on May 20, 2025.²

¹ See Designation of Afghanistan for Temporary Protected Status, 87 FR 30976 (May 20, 2022).

² See Extension and Redesignation of Afghanistan for Temporary Protected Status, 88 FR 65728 (Sept. 25, 2023).

Secretary's Authority To Terminate the Designation of Afghanistan for TPS

At least 60 days before the expiration of a country's TPS designation or extension, the Secretary—after consultation with appropriate U.S. Government agencies—must review the conditions in a foreign state designated for TPS to determine whether the conditions for the TPS designation continue to be met. See INA sec. 244(b)(3)(A), 8 U.S.C. 1254a(b)(3)(A). If the Secretary determines that the foreign state no longer meets the conditions for the TPS designation, the Secretary shall terminate the designation. The termination may not take effect earlier than 60 days after the date the Federal Register notice of termination is published, or if later, the expiration of the most-recent previous extension of the country designation. See INA sec.244(b)(3)(B), 8 U.S.C. 1254a(b)(3)(B). The Secretary may determine the appropriate effective date of the termination and the expiration of any TPS-related documentation, such as EADs. See id.; see also INA sec. 244(d)(3), 8 U.S.C. 1254a(d)(3) (providing the Secretary the discretionary “option” to allow for a certain “orderly transition” period if she determines it to be appropriate).

Reasons for the Secretary's Termination of the TPS Designation for Afghanistan

Consistent with INA section 244(b)(3)(A), 8 U.S.C. 1254a(b)(3)(A), after consulting with appropriate U.S. Government agencies, the Secretary reviewed conditions in Afghanistan and considered whether Afghanistan continues to meet the conditions for designation under INA section 244(b)(1)(A) and (C), 8 U.S.C. 1254a(b)(1)(A) and (C). The Secretary specifically considered: (1) whether requiring the return of Afghan nationals (and aliens having no nationality who last habitually resided in Afghanistan) to Afghanistan poses a serious threat to their personal safety due to an ongoing armed conflict, see INA 244(b)(1)(A), 8 U.S.C. 1254a(b)(1)(A); (2) whether there are extraordinary and temporary conditions that prevent Afghan nationals from returning in safety, see INA 244(b)(1)(C), 8 U.S.C. 1254a(b)(1)(C), and (3) whether, despite any extraordinary and temporary conditions that may prevent their safe return, permitting Afghan nationals to remain temporarily in the United States is contrary to the national interest of the United States, see INA 244(b)(1)(C), 8 U.S.C. 1254a(b)(1)(C).³

³ See also Exec. Order 14159, Protecting the American People Against Invasion, sec. 16(b), 90 FR 8443, 8446 (Jan. 20, 2025) (directing that the Secretary should “ensur[e] that designations of Temporary Protected Status are consistent with the provisions of section 244 of the INA (8 U.S.C. 1254a), and that such designations are appropriately limited in scope and made for only so long as may be necessary to fulfill the textual requirements of that statute”).

Based on her review and consultation with the Department of State, the Secretary determined that, overall, there are notable improvements in the security and economic situation such that requiring the return of Afghan nationals to Afghanistan does not pose a threat to their personal safety due to armed conflict or extraordinary and temporary conditions. She further determined that permitting Afghan nationals to remain temporarily in the United States is contrary to the national interest of the United States.

Armed conflict, primarily between the Taliban and Islamic State's Khorasan Province (ISIS-K), a Foreign Terrorist Organization (FTO), continues as a source of violence and instability in certain parts of the country.⁴ Since 2021, the Taliban have actively fought back against the various terrorist groups within its borders.⁵ Recent reports show that there is no indication of systematic or scattered combat in the country, that there is no place in Afghanistan where armed opposition groups have an overt presence, and none of the groups have been assessed to pose a real threat to Taliban rule.⁶ The United Nations Assistance Mission to Afghanistan (UNAMA) recorded a year-over-year reduction in the use of improvised explosive devices by 72 percent: from 65 to 18 uses.⁷ The Armed Conflict Location and Event Data Project (ACLED) also reported a drop in overall attacks against civilians, compared with 2022.⁸ And there is a reported decrease in armed conflict since the end of the Taliban's insurgency.⁹ While threats of violence and terrorism remain, large-scale violence is at its lowest level in decades.¹⁰

⁴ ISIS-K is also known as the Islamic State in Khorasan Province (ISKP). See, Afghanistan—Country Focus, Country of Origin Information Report, European Union Agency for Asylum (EUAA), Nov. 2024, available at https://euaa.europa.eu/sites/default/files/publications/2024-11/2024_11_EUAA_COI_Report_Afghanistan_Country_Focus_0.pdf, (last visited Apr. 09, 2025).

⁵ Instability in Afghanistan, Global Conflict Tracker, Center for Preventative Action, Feb. 12, 2025, available at https://www.cfr.org/global-conflict-tracker/conflict/war-afghanistan (last visited: Apr. 02, 2025).

⁶ Afghanistan—Country Focus, Country of Origin Information Report, European Union Agency for Asylum (EUAA), Nov. 2024, available at https://euaa.europa.eu/sites/default/files/publications/2024-11/2024_11_EUAA_COI_Report_Afghanistan_Country_Focus_0.pdf, (last visited Apr. 09, 2025).

⁷ Country Reports on Terrorism 2023, Afghanistan, Bureau of Counterterrorism, U.S. Department of State, Dec. 12, 2024, https://www.state.gov/reports/country-reports-on-terrorism-2023/afghanistan (last visited Apr. 02, 2025).

⁸ Country Reports on Terrorism 2023, Afghanistan, Bureau of Counterterrorism, U.S. Department of State, Dec. 12, 2024, https://www.state.gov/reports/country-reports-on-terrorism-2023/afghanistan (last visited Apr. 02, 2025).

⁹ Belquis Ahmadi, Joyana Richer, Jill Baggerman, William Byrd, Ph.D. & Scott Worden, Where is Afghanistan Three Years into Taliban Rule? U.S. Institute of Peace, Sept. 19, 2024, available at https://web.archive.org/web/20240926191614/https://www.usip.org/publications/2024/09/where-afghanistan-three-years-taliban-rule (last visited Apr. 04, 2025).

¹⁰ Belquis Ahmadi, Joyana Richer, Jill Baggerman, William Byrd, Ph.D. & Scott Worden, Where is Afghanistan Three Years into Taliban Rule? U.S. Institute of Peace, Sept. 19, 2024, available at https://web.archive.org/web/20240926191614/https://www.usip.org/publications/2024/09/where-afghanistan-three-years-taliban-rule (last visited Apr. 04, 2025).

Additionally, though humanitarian need remains prevalent, the number of those in need of assistance has declined to 23.7 million this year, a decrease from the more than 29 million Afghan nationals in need reported the previous year.¹¹ Furthermore, in 2023 and 2024, Afghanistan's economy began to show a Gross Domestic Product growth of 2.7%, which was primarily driven by private consumption.¹² This sign of recovery, coupled with falling food prices, higher monetary deposits from out of country, and ongoing humanitarian aid, has contributed to a gradual improvement in household welfare, particularly in rural areas.¹³

¹¹ Akmal Dawi, Humanitarian Needs in Afghanistan Improve Slightly, Millions Still in Crisis, Voice of American (VOA), Mar. 25, 2024, available at https://www.voanews.com/a/humanitarian-needs-in-afghanistan-improve-slightly-millions-still-in-crisis/7542014.html (last visited Feb. 24, 2025).

¹² The World Bank in Afghanistan: Overview, World Bank Group, Feb. 09, 2025, available at https://www.worldbank.org/en/country/afghanistan/overview (last visited Feb. 24, 2025).

¹³ The World Bank in Afghanistan: Overview, World Bank Group, Feb. 09, 2025, available at https://www.worldbank.org/en/country/afghanistan/overview (last visited Feb. 24, 2025); Afghanistan Development Update, The World Bank, Dec. 2024, pg.12, available at https://thedocs.worldbank.org/en/doc/126f9684f0c7ff20248c0c7bf45ccccd-0310012024/afghanistan-development-update-december-2024 (last visited Feb. 24, 2025).

The Taliban government is promoting tourism to shift its global image.¹⁴ Tourism to Afghanistan has increased, as the rates of kidnappings have reduced.¹⁵ In 2021, there were 691 foreign tourists; in 2022, that figure rose to 2,300 and continued to rise to 7,000 in 2023.¹⁶ Foreign visitors, particularly from China, have increased by 913% since the Taliban took control of the country in August 2021.¹⁷ Tourists are sharing their experiences on social media, highlighting the peaceful countryside, welcoming locals, and the cultural heritage, according to some reports.¹⁸

¹⁴ Afghanistan—wish you were here? The Taliban do, Flora Drury, BBC News, July 20, 2024, https://www.bbc.com/news/articles/cv223yvnp9mo (last visited Apr. 02, 2025).

¹⁵ Belquis Ahmadi, Joyana Richer, Jill Baggerman, William Byrd, Ph.D. & Scott Worden, Where is Afghanistan Three Years into Taliban Rule? U.S. Institute of Peace, Sept. 19, 2024, available at https://web.archive.org/web/20240926191614/https://www.usip.org/publications/2024/09/where-afghanistan-three-years-taliban-rule (last visited Apr. 04, 2025).

¹⁶ The Taliban are working to woo tourists to Afghanistan, Riazat Butt, AP News, Apr. 30, 2024, https://apnews.com/article/afghanistan-taliban-tourism-women-7acb04bb78dd779e763a337790113cec (last visited Apr. 02, 2025).

¹⁷ Chinese tourists are now travelling to . . . Afghanistan?! Travel Weekly Asia, Nov. 13, 2024, available at https://www.travelweekly-asia.com/Destination-Travel/Chinese-tourists-are-now-travelling-to-Afghanistan (last visited Feb. 24, 2025).

¹⁸ Chinese tourists are now travelling to . . . Afghanistan?! Travel Weekly Asia, Nov. 13, 2024, available at https://www.travelweekly-asia.com/Destination-Travel/Chinese-tourists-are-now-travelling-to-Afghanistan (last visited Feb. 24, 2025).

By statute, the Secretary is prohibited from designating a country for TPS or extending a TPS designation on the basis of extraordinary and temporary conditions if she finds that “permitting the aliens to remain temporarily in the United States is contrary to the national interest of the United States.” ¹⁹ “National interest” is an expansive standard that may encompass an array of broad considerations, including foreign policy, public safety (e.g., potential nexus to criminal gang membership), national security, migration factors (e.g., pull factors), immigration policy (e.g., enforcement prerogatives), and economic considerations (e.g., adverse effects on U.S. workers, impact on U.S. communities).²⁰ Determining whether permitting a class of aliens to remain temporarily in the United States is contrary to the U.S. national interest therefore calls upon the Secretary's expertise and discretionary judgment, informed by her consultations with appropriate U.S. Government agencies.

¹⁹ See INA 244(b)(1), 8 U.S.C. 1254a(b)(1).

²⁰ See, e.g., Poursina v. USCIS, 936 F.3d 868, 874 (9th Cir. 2019) (observing, in an analogous INA context, “that the `national interest' standard invokes broader economic and national-security considerations, and such determinations are firmly committed to the discretion of the Executive Branch—not to federal courts” (citing Trump v. Hawaii, 585 U.S. 667, 684-86 (2018)); Flores v. Garland, 72 F.4th 85, 89-90 (5th Cir. 2023) (same); Brasil v. Sec'y, Dep't of Homeland Sec., 28 F.4th 1189, 1193 (11th Cir. 2022) (same); cf. Matter of D-J-, 23 I&N Dec. 572, 579-81 (A.G. 2003) (recognizing that taking measures to stem and eliminate possible incentives for potential large-scale migration from a given country is “sound immigration policy” and an “important national security interest”); Matter of Dhanasar, 26 I&N Dec. 884, 890-91 (AAO 2016) (taking into account impact on U.S. workers in “national interest” assessments).

In E.O. 14159, the President referenced the “[m]illions of illegal aliens [who] crossed our borders or were permitted to fly directly into the United States on commercial flights and allowed to settle in American communities, in violation of longstanding Federal laws.” ²¹ Additionally, President Trump clearly articulated an array of policy imperatives bearing upon the national interest in his recent immigration and border-related executive orders and proclamations. In E.O. 14159, President Trump underscored that enforcing the immigration laws “is critically important to the national security and public safety of the United States.” ²² In furtherance of that objective, the President directed the Secretary, along with the Attorney General and Secretary of State, to promptly take all appropriate action, consistent with law, to rescind policies that led to increased or continued presence of illegal aliens in the United States.²³ The directed actions include ensuring that the TPS designations are consistent with the TPS statute and “made for only so long as may be necessary to fulfill the textual requirements of that statute.” ²⁴ The Department has considered the national interest factors and determined that continuing to permit Afghan nationals (and aliens having no nationality who last habitually resided in Afghanistan) to reside in the United States on TPS would be inconsistent with E.O. 14159 and otherwise contrary to the U.S. national interest, especially in light of the Secretary's determination that they may return in safety.

²¹ 90 FR 8443 (Jan. 20, 2025).

²² E.O. 14159, Protecting the American People Against Invasion, sec. 1, 90 FR 8443, 8443 (Jan. 20, 2025).

²³ Id., sec. 16, 90 FR 8446.

²⁴ Id., sec. 16(b), 90 FR 8446.

In addition, DHS records indicate that there are Afghan nationals who are TPS recipients who have been the subject of administrative investigations for fraud, public safety, and national security. The Secretary accordingly took account of those cases in making her determination.

The Secretary also consulted with the Department of State regarding the foreign policy interests of the United States and agreed that continuing to permit the Afghan nationals to remain temporarily in the United States would not be consistent with the U.S. national interest. Moreover, as the President directed in Executive Order 14150, “the foreign policy of the United States shall champion core American interests and always put America and American citizens first.” ²⁵ Continuing to permit these Afghan nationals to remain in the United States does not champion core American interests or put American interests first. U.S. foreign policy interests are best served and protected by curtailing policies that facilitate or encourage destabilizing migration.

²⁵ America First Policy Directive to the Secretary of State, 90 FR 8337 (Jan. 20, 2025); see also, e.g., U.S. Dep't of State, Priorities and Mission of the Second Trump Administration's Department of State (Jan. 24, 2025), https://pa.usembassy.gov/priorities-and-mission-of-the-second-trump-administrations-department-of-state/.

DHS estimates that there are approximately 11,700 nationals of Afghanistan (and aliens having no nationality who last habitually resided in Afghanistan) who hold TPS under Afghanistan's designation.²⁶ Afghan nationals who have obtained another immigration benefit apart from TPS, including parole, will retain that immigration benefit unless otherwise notified. Furthermore, DHS recognizes that certain Afghan nationals may have legitimate protection claims under the INA and reiterates that the statutory periodic review requires the consideration of whether conditions for a TPS designation continue to be met. As discussed, Afghanistan no longer continues to meet the conditions for the TPS designation, and TPS is not a substitute for seeking long-term, permanent protection in the United States.

²⁶ As of April 7, 2025, approximately 3,600 of these nationals of Afghanistan (and aliens having no nationality who last habitually resided in Afghanistan) are also approved as Lawful Permanent Residents. Data queried by Department of Homeland Security, U.S. Citizenship and Immigration Services, Office of Performance and Quality (Apr. 2025).

Effective Date of Termination of the TPS Designation

The TPS statute provides that the termination of a country's TPS designation may not be effective earlier than 60 days after the Federal Register notice is published or, if later, the expiration of the most-recent previous extension. See INA sec. 244(b)(3)(B), 8 U.S.C. 1254a(b)(3)(B).

The Secretary may determine the appropriate effective date of the termination and the expiration of any TPS-related documentation, such as EADs, for the purpose of providing for an orderly transition. See id.; see also INA sec. 244(d)(3), 8 U.S.C. 1254a(d)(3). Given the Secretary's finding that there is reduction in armed conflict, that the return of Afghan nationals does not pose a threat to their personal safety, that the conditions that precipitated the designation are no longer met, and that permitting Afghan nationals to remain temporarily in the United States is contrary to the national interest of the United States, the Secretary has determined a 60-day transition period is sufficient. Accordingly, the termination of the Afghanistan TPS designation will be effective 60 days from this notice's publication date.²⁷

²⁷ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

However, DHS recognizes that Afghanistan TPS beneficiaries continue to be employment authorized during the 60-day transition period.²⁸ Accordingly, through this Federal Register notice, DHS automatically extends the validity of certain EADs previously issued under the TPS designation of Afghanistan through July 14, 2025. Therefore, as proof of continued employment authorization through July 14, 2025, TPS beneficiaries can show their EADs that have the notation A-12 or C-19 under Category and a “Card Expires” date of November 20, 2023, or May 20, 2025.

²⁸ See INA 244(a)(1)(B), 8 U.S.C. 1254a(a)(1)(B); see also 8 CFR 244.13(b).

The Secretary has considered putative reliance interests in the Afghanistan TPS designation, especially when considering whether to allow for an additional transition period akin to that allowed under certain previous TPS terminations. Temporary Protected Status, as the name itself makes clear, is an inherently temporary status. TPS designations are time-limited and must be periodically reviewed. See INA sec. 244(b)(3), 8 U.S.C. 1254a(b)(3). TPS notices clearly notify aliens of the designations' expiration dates, and whether to allow for an orderly transition period is left to the Secretary's unfettered discretion. See INA sec. 244(b)(3), (d)(3); 8 U.S.C. 1254a(b)(3), (d)(3). Additionally, Afghanistan has only been designated for TPS since May 20, 2022, thus many Afghanistan TPS beneficiaries lack the longer periods of residence in the United States that beneficiaries from other countries had.²⁹ DHS has determined that any putative reliance interests are outweighed by the overriding national interests described in this notice.

²⁹ DHS recognizes that certain previous TPS terminations allowed for an extended transition, especially in the case of TPS designations that had been extended numerous times over the course of many years. See, e.g., Termination of the Designation of El Salvador for Temporary Protected Status, 83 FR 2654 (Jan. 18, 2018) (nearly 17 years, with 18-month transition period); Termination of the Designation of Sudan for Temporary Protected Status, 82 FR 47228 (Oct. 11, 2017) (20 years, with 12-month orderly transition period); Termination of the Designation of Sierra Leone Under the Temporary Protected Status Program; Extension of Employment Authorization Documentation, 68 FR 52407 (Sept. 3, 2003) (nearly 6 years, with 6-month orderly transition period); Six-Month Extension of Temporary Protected Status Benefits for Orderly Transition Before Termination of Liberia's Designation for Temporary Protected Status, 81 FR 66059 (Sept. 26, 2016) (nearly 2 years, with 6-month orderly transition period). Those countries, however, generally had been designated for TPS for longer periods. At the same time, certain other TPS designations were terminated without allowing for an extended transition period. See, e.g., Termination of Designation of Angola Under the Temporary Protected Status Program, 68 FR 3896 (Jan. 27, 2003) (nearly 3 years, no orderly transition period); Termination of Designation of Lebanon Under Temporary Protected Status Program, 58 FR 7582 (Feb. 8, 1993) (2 years, no extended transition period).

Notice of Termination of the TPS Designation of Afghanistan

By the authority vested in the Secretary of Homeland Security under INA section 244(b)(3), 8 U.S.C. 1254a(b)(3), and in consultation with appropriate agencies of the U.S. Government, I have reviewed conditions in Afghanistan and considered (a) whether the return of its nationals (and aliens having no nationality who last habitually resided in Afghanistan) would pose a serious threat to their personal safety due to ongoing armed conflict; and (b) whether there are extraordinary and temporary conditions that prevent Afghan nationals from returning in safety, and whether permitting the Afghan nationals (and aliens having no nationality who last habitually resided in Afghanistan) to remain temporarily in the United States is contrary to the national interest of the United States. Based on my review, I have determined that Afghanistan no longer continues to meet the conditions for the designation for Temporary Protected Status (TPS) under INA section 244(b)(1)(A), 8 U.S.C. 1254a(b)(1)(A), or INA section 244(b)(1)(C), 8 U.S.C. 1254a(b)(1)(C).

Accordingly, I order as follows:

(1) Pursuant to INA section 244(b)(3)(B), 8 U.S.C. 1254a(b)(3)(B), and considering INA section 244(d)(3), 8 U.S.C. 1254a(d)(3), the designation of Afghanistan for TPS is terminated effective at 11:59 p.m., local time, on July 14, 2025.

(2) Information concerning the termination of TPS for nationals of Afghanistan (and aliens having no nationality who last habitually resided in Afghanistan) will be available at local USCIS offices upon publication of this Notice and through the USCIS Contact Center at 1-800-375-5283. This information will be published on the USCIS website at www.USCIS.gov.

Kristi Noem,
Secretary of Homeland Security.

[FR Doc. 2025-08201 Filed 5-12-25; 8:45 am]

BILLING CODE 9111-97-P